DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Ryousuke Fujita, Ph.D., Columbia University: Based on the report of an investigation conducted by Columbia University (CU) and additional analysis conducted by ORI in its oversight review, ORI found that Dr. Ryousuke Fujita, former Postdoctoral Scientist, Taub Institute for the Aging Brain, Departments of Pathology and Cell Biology and Neurology, CU Medical Center, engaged in research misconduct in research supported by National Institute of Neurological Disorders and Stroke (NINDS), National Institutes of Health (NIH), grant R01 NS064433 and National Institute of Aging (NIA), NIH, grant R01 AG042317.

ORI found that Respondent engaged in research misconduct by falsifying and fabricating data for specific protein expressions in human-induced neuronal (hiN) cells derived skin fibroblasts of Alzheimer's disease patients and unaffected individuals in seventy-four (74) panels included in figures in the following two (2) publications and one (1) unpublished manuscript:

• Cell 146:359-371, 2011 (hereafter referred to as “Cell 2011”).

• Nature 500:45-53, 2013 (hereafter referred to as “Nature 2013”).

• “Human induced neuron models of APOE4-associated Alzheimer's disease display altered APP endocytosis and processing.” Unpublished manuscript.

ORI found that Respondent engaged in research misconduct by knowingly and intentionally fabricating and falsifying research in seventy-four (74) panels included in figures in Cell 2011, Nature 2013, and the unpublished manuscript. Respondent inflated sample numbers and data, fabricated numbers for data sets, manipulated enzyme-linked immunosorbent assay (ELISA) analysis, mislabelled immunoflourescent confocal images, and manipulated and reused Western blot images.

Specifically, the Respondent

• Fabricated numbers for the data presented as a bar graph in nine (9) panels in Figures S6#, S6H, and S6J in Cell 2011, Figures 3B and S12 in Nature 2013, and Figures 2F, 4B, 4D, and 4F in the unpublished manuscript

Falsely inflated the sample size of quantitative data presented as bar graphs in fifty-three (53) panels in Figures 6B, 7I, and S6J in Cell 2011, Figures 3G, 3H, 4C, S10, S11b-h, S12d-f, S13a, S13c, S14b-c, S15b-i, and S16a-f in Nature 2013, and Figures 4b, 4d, 4f, 4i, 6c-d, S1n, S1o, S2a-b, and S4c-k in the unpublished manuscript

Falsely manipulated ELISA analysis to achieve desired results presented as bar graphs in nine (9) figure-panels in Figure 6B in Cell 2011 and Figures 2D, 2E, 3G, 3H, and S10a-d in Nature 2013

Falsely inflated the numerical values of the data in Figure 7I in Cell 2011 by a factor of 10 to improve results and appear consistent with data presented in supplementary information published with the paper

Falsely reversed the labeling of immunoflourescent confocal images in Figures 7M and 7N in Cell 2011 and Figure S13A in Nature 2013 to obtain the desired results

Flipped and resized the Western blot image for APP panel from Figure 12b and falsely reused it to represent APP results under completely different experimental conditions in Figure 12c in Nature 2013

Dr. Fujita has entered into a Voluntary Exclusion Agreement (Agreement) and has voluntarily agreed for a period of three (3) years, beginning on March 18, 2015:

(1) to exclude himself from any contracting or subcontracting with any agency of the United States Government and from eligibility for or involvement in nonprocurement programs of the United States Government referred to as “covered transactions” pursuant to HHS' Implementation (2 CFR part 376 et seq) of OMB Guidelines to Agencies on Governmentwide Debarment and Suspension, 2 CFR part 180 (collectively the “Debarment Regulations”); and

(2) to exclude himself voluntarily from serving in any advisory capacity to the U.S. Public Health Service (PHS) including, but not limited to, service on any PHS advisory committee, board, and/or peer review committee, or as a consultant.

FOR FURTHER INFORMATION CONTACT: Acting Director, Office of Research Integrity, 1101 Wootton Parkway, Suite 750, Rockville, MD 20852, (240) 453-8200.

Donald Wright,
Acting Director, Office of Research Integrity.

[FR Doc. 2015-07897 Filed 4-6-15; 8:45 am]

BILLING CODE CODE 4150-31-P